DEPARTMENT OF TRANSPORTATION

Federal Aviation Administration

14 CFR Part 71

[Docket No. FAA-2020-0651; Airspace Docket No. 18-AAL-13]

RIN 2120-AA66

Amendment of Air Traffic Services (ATS) Route V-456; Alaska

AGENCY: Federal Aviation Administration (FAA), DOT.

ACTION: Notice of proposed rulemaking (NPRM); withdrawal.

SUMMARY: The FAA is withdrawing the NPRM published in the Federal Register on September 4, 2020, proposing to amend VHF Omnidirectional Range (VOR) Federal airway V-456 which would serve as an alternative to the Colored Federal airway Green-11 (G-11). Subsequent to the NPRM, the FAA determined during a flight check inspection that the desired altitudes along the proposed route amendment for V-456 did not meet the expected criteria and determined that the withdrawal of the proposed rule is warranted.

DATES: Effective date 0901 UTC, July 25, 2022, the proposed rule published September 4, 2020 (85 FR 55200) is withdrawn.

FOR FURTHER INFORMATION CONTACT: Jesse Acevedo, Rules and Regulations Group, Office of Policy, Federal Aviation Administration, 800 Independence Avenue SW, Washington, DC 20591; telephone: (202) 267-8783.

SUPPLEMENTARY INFORMATION:

History

The FAA published a NPRM in the Federal Register for Docket No. FAA-2020-0651 (85 FR 55200; September 4, 2020). The NPRM proposed to amend the VOR Federal airway V-456 and serve as an alternative to the Colored Federal airway G-11. G-11 obtained navigation guidance from the Glennallen, AK (GLA), Non-Directional Beacon (NDB) navigation aid (NAVAID) which was pending decommissioning. Subsequent to the NPRM, the FAA published a Final Rule in the Federal Register (85 FR 59668; September 23, 2020) removing G-11. Also subsequent to the NPRM, the FAA determined during a flight check inspection that the desired altitudes along the proposed route amendment for V-456 did not meet the expected criteria. Since the proposed new routing for V-456 offers no advantage to the present routing of the airway, the V-456 amendment will no longer be pursued.

Interested parties were invited to participate in this rulemaking effort by submitting written comments on the proposal. No comments were received.

FAA Conclusions

The FAA has determined during a flight check inspection that the desired altitudes along the proposed route amendment for V-456 did not meet the expected criteria. Since the proposed new routing for V-456 offers no advantage to the present routing of the airway, the V-456 amendment will no longer be pursued.

List of Subjects in 14 CFR Part 71

Airspace, Incorporation by reference, Navigation (air).

The Withdrawal

Accordingly, pursuant to the authority delegated to me, the NPRM published in the Federal Register on September 4, 2020 (85 FR 55200), FR Doc. 2020-19496, is hereby withdrawn.

Authority: 49 U.S.C. 106(f), 106(g), 40103, 40113, 40120; E.O. 10854; 24 FR 9565, 3 CFR, 1959-1963 Comp., p. 389.

Issued in Washington, DC, on July 19, 2022.
Scott M. Rosenbloom,
Manager, Airspace Rules and Regulations.

[FR Doc. 2022-15808 Filed 7-22-22; 8:45 am]

BILLING CODE 4910-13-P